INTER-AMERICAN FOUNDATION

30-Day Notice of Proposed Information Collection Under OMB Review; Comment Request

AGENCY: Inter-American Foundation.

ACTION: Notice and request for comment.

SUMMARY: In compliance with the Paperwork Reduction Act (PRA) of 1995, this notice announces that the Inter-American Foundation (IAF), will submit the collection of information abstracted below to the Office of Management and Budget (OMB) for review and comment. The PRA submission describes the nature of the information collection and its expected cost and burden and it includes the actual data collection instrument.

DATES: Written comments must be submitted to the office listed in the address section below within 30 days from the date of this publication in the Federal Register.

FOR FURTHER INFORMATION CONTACT: Natalia Mandrus, Associate General Counsel, Inter-American Foundation, via email to nmandrus@iaf.gov; (202) 683-7117.

SUPPLEMENTARY INFORMATION: Title of Collection: Grantee Conflicts of Interest Disclosure Form.

OMB Control Number: Will be assigned upon OMB approval.

Type of Review: New Collection (Request for a new OMB control number).

Affected Public: IAF grantees.

Estimated Number of Respondents per year: 10.

Estimated Total Annual Burden Hours: 15.

Abstract: The purpose of the Grantee Conflicts of Interest Disclosure Form is to give IAF grantees an opportunity to disclose any personal or organizational conflicts of interest, or potential for conflicts of interest. Grantees who have a conflict or potential conflict must disclose all relationships with which it or any covered person has that create, or appear to create, a conflict of interest.

Request for Comments: The IAF issued a 60-day Federal Register notice on May 7, 2021 (86 FR 24655). Comments were solicited and continue to be invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology, e.g., permitting electronic submission of responses. Comments submitted in response to this notice will be summarized and/or included in the request for OMB approval. All comments will become a matter of public record.

A Notice by the Inter-American Foundation on August 13, 2021.

Aswathi Zachariah,
General Counsel.

[FR Doc. 2021-17735 Filed 8-19-21; 8:45 am]

BILLING CODE 7025-01-P